DEPARTMENT OF LABOR

Employment and Training Administration

Agency Information Collection Activities; Comment Request; Unemployment Insurance (UI) Trust Fund Activities Reports

ACTION: Notice.

SUMMARY: The Department of Labor's (DOL) Employment and Training Administration (ETA) is soliciting comments concerning a proposed extension for the authority to conduct the information collection request (ICR) titled Unemployment Insurance (UI) Trust Fund Activities Reports. This comment request is part of continuing Departmental efforts to reduce paperwork and respondent burden in accordance with the Paperwork Reduction Act of 1995 (PRA).

DATES: Consideration will be given to all written comments received by August 23, 2021.

ADDRESSES: A copy of this ICR with applicable supporting documentation, including a description of the likely respondents, proposed frequency of response, and estimated total burden, may be obtained free by contacting Joe Williams by telephone at (202) 693-2928 (this is not a toll-free number), TTY 1-877-889-5627 (this is not a toll-free number), or by email at williams.joseph@dol.gov.

Submit written comments about, or requests for a copy of, this ICR by mail or courier to the U.S. Department of Labor, Employment and Training Administration, Office of Unemployment Insurance, Room S-4524, 200 Constitution Avenue NW, Washington, DC 20210; by email: williams.joseph@dol.gov; or by fax at (202) 693-3975.

FOR FURTHER INFORMATION CONTACT: Cynthia Greene by telephone at (202) 693-2724 (this is not a toll-free number) or by email at Cynthia.greene.m@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Section 303(a)(4) of the Social Security Act (SSA) and Section 3304(a)(3) of the Federal Unemployment Tax (FUTA) require that all monies received in the unemployment fund of a state be paid immediately to the Secretary of the Treasury to the credit of the Unemployment Trust Fund (UTF). This is the “immediate deposit” standard. Section 303(a)(5) of the SSA and Section 3304(a)(4) of the FUTA require that all monies withdrawn from the UTF be used solely for the payment of unemployment compensation, exclusive of the expenses of administration. This is the “limited withdrawal” standard.

Federal law (Section 303(a)(6) of the SSA) gives the Secretary of Labor the authority to require the reporting of information deemed necessary to assure state compliance with the provisions of the SSA. Under this authority, the Secretary of Labor requires the following reports to monitor state compliance with the immediate deposit and limited withdrawal standards:

ETA 2112: UI Financial Transactions Summary, Unemployment Fund,

ETA 8401: Monthly Analysis of Benefit Payment Account,

ETA 8403: Summary of Financial Transactions—Title IX Funds,

ETA 8405: Monthly Analysis of Clearing Account,

ETA 8413: Income-Expense Analysis Unemployment Compensation (UC) Fund, Benefit Payment Account, and

ETA 8414: Income-Expense Analysis UC Fund, Clearing Account.

Section 303(a)(6) of the SSA authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0154.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without change.

Title of Collection: Unemployment Insurance (UI) Trust Fund Activities Reports.

Form: ETA 2112, 8401, 8403, 8405, 8413, and 8414.

OMB Control Number: 1205-0154.

Affected Public: State Workforce Agencies.

Estimated Number of Respondents: 53.

Frequency: Monthly.

Total Estimated Annual Responses: 3,498.

Estimated Average Time per Response: 0.5 hour.

Estimated Total Annual Burden Hours: 1,749 hours.

Total Estimated Annual Other Cost Burden: $0.

Suzan G. LeVine,
Principal Deputy Assistant Secretary for Employment and Training, Labor.

[FR Doc. 2021-13307 Filed 6-23-21; 8:45 am]

BILLING CODE 4510-FW-P